DEPARTMENT OF AGRICULTURE

Agricultural Marketing Service

[Doc. No AMS-FGIS-21-0043]

Opportunity To Comment on Applicants for the West Lafayette, Indiana U.S. Grain Standards Act Designation Area

AGENCY: Agricultural Marketing Service, USDA.

ACTION: Notice and request for comments.

SUMMARY: In the June 28, 2021, Federal Register, AMS asked persons interested in providing official U.S. Grain Standards Act services in the West Lafayette, Indiana designation area to submit an application. There are two applicants for the West Lafayette, Indiana area: Champaign-Danville Grain Inspection Departments, Inc. (Champaign) and North Dakota Grain Inspection Service, Inc. (North Dakota). Both applicants are currently designated official agencies and applied for designation to provide official services for the entire area formerly assigned to Titus Grain Inspection, Inc. Each applicant is also currently serving in an interim designation capacity. The geographic area is described in the SUPPLEMENTARY INFORMATION below. We are asking for comments on these applicants.

DATES: Comments must be received by January 3, 2022.

ADDRESSES: Submit comments concerning this Notice using any of the following methods:

• To submit Comments: Go to Regulations.gov (http://www.regulations.gov). Instructions for submitting and reading comments are detailed on the site. Interested persons are invited to submit written comments concerning this notice. All comments must be submitted through the Federal e-rulemaking portal at http://www.regulations.gov and should reference the document number and the date and page number of this issue of the Federal Register. All comments submitted in response to this notice will be included in the record and will be made available to the public. Please be advised that the identity of the individuals or entities submitting comments will be made public on the internet at the address provided above.

Read Applications and Comments: If you would like to view the applications, please contact us at FGISQACD@usda.gov. All comments will be available for public inspection online at http://www.regulations.gov.

FOR FURTHER INFORMATION CONTACT: Austyn Hughes at FGISQACD@usda.gov or 816-266-5066.

SUPPLEMENTARY INFORMATION: The area, in the State of Indiana, includes Benton (east of U.S. Route 41), Carroll (north of State Route 25), Fountain (east of U.S. Route 41), Jasper (south of U.S. Route 24), Newton (east of State Route 55 and south of U.S. Route 24), Pulaski, Tippecanoe, Warren (east of U.S. Route 41), and White Counties.

The following grain elevators are part of this interim geographic area assignment. In Champaign-Danville Grain Inspection Department, Inc.'s area: Boswell Chase Grain, Inc., Boswell, Benton County, Indiana. In North Dakota Grain Inspection Service, Inc.'s area: The Andersons, Delphi, Carroll County; Frick Services, Inc., Leiters Ford, Fulton County; and Cargill, Inc., Linden, Montgomery County, Indiana.

Request for Comments

We are publishing this Notice to provide interested persons the opportunity to comment on the quality of services provided by the Champaign and North Dakota official agencies. In the designation process, we are particularly interested in receiving comments citing reasons and pertinent data supporting or objecting to the designation of the applicant(s). Such comments should be submitted through the Federal e-rulemaking portal at http://www.regulations.gov.

We consider applications, comments, and other available information, such as audit reports, when determining which applicants will be designated.

Authority: 7 U.S.C. 71-87k.

Melissa Bailey,
Associate Administrator, Agricultural Marketing Service.

[FR Doc. 2021-26262 Filed 12-2-21; 8:45 am]

BILLING CODE P